INTERNATIONAL TRADE COMMISSION

[Investigation No. 731-TA-860 (Final) (Remand)]

Tin- and Chromium-Coated Steel Sheet From Japan; Notice and Scheduling of Remand Proceedings

AGENCY: International Trade Commission.

ACTION: Notice.

SUMMARY: The U.S. International Trade Commission (the Commission) hereby gives notice of the court-ordered remand of its final antidumping investigation No. 731-TA-860 (Final) (Remand).

EFFECTIVE DATE: January 12, 2004.

FOR FURTHER INFORMATION CONTACT: Laurent de Winter, Office of General Counsel, telephone 202-708-5452, U.S. International Trade Commission. Hearing-impaired individuals are advised that information on this matter can be obtained by contacting the Commission's TDD terminal on 202-205-1810. General information concerning the Commission may also be obtained by accessing its Internet server (http://www.usitc.gov).

SUPPLEMENTARY INFORMATION:

Reopening Record

In order to assist it in making its determination on remand, the Commission is reopening the record in this investigation for the limited purpose of clarifying purchaser responses to pricing information. The Commission will provide the parties an opportunity to file comments on any new information received.

Participation in the Proceedings

Only those persons who participated in the appeal of the Commission's remand proceedings may participate in these remand proceedings.

Nature of the Remand Proceedings

On January 13, 2004, the Commission will make available to the parties who participated in the appeal of the remand investigation information that has been gathered by the Commission as part of these remand proceedings. Parties that are participating in the remand proceedings may file comments on or before January 23, 2004, on whether any new information affects the Commission's price effects findings in this investigation. Any material in the comments that does not address this limited issue will be stricken from the record or disregarded. No additional new factual information may be included in such comments. Comments shall be typewritten and submitted in a font no smaller than 11-point (Times New Roman) and shall not exceed 15 double-spaced pages (inclusive of any footnotes, tables, graphs, exhibits, appendices, etc.)

In addition, all written submissions must conform with the provisions of section 201.8 of the Commission's rules; any submissions that contain business proprietary information (BPI) must also conform with the requirements of sections 201.6, 207.3, and 207.7 of the Commission's rules. The Commission rules do not authorize filing submissions with the Secretary by facsimile or electronic means. Each document filed by a party participating in the remand investigation must be served on all other parties who may participate in the investigation (as identified by either the public or BPI service list), and a certificate of service must be timely filed. The Secretary will not accept a document for filing without a certificate of service. Parties are also advised to consult the Commission's rules of practice and procedure, part 201, subparts A through E (19 CFR part 201), and part 207, subpart A (19 CFR part 207) for provisions of general applicability concerning written submissions to the Commission.

Limited Disclosure of Business Proprietary Information (BPI) Under an Administrative Protective Order (APO) and BPI Service List

Information obtained during the remand investigation will be released to parties under the administrative protective order (APO) in effect in the original investigation. Pursuant to section 207.7(a) of the Commission's rules, the Secretary will make business proprietary information gathered in the final investigation and this remand investigation available to additional authorized applicants, that are not covered under the original APO, provided that the application is made not later than seven (7) days after publication of the Commission's notice of reopening the record on remand in the Federal Register. Applications must be filed for persons on the Judicial Protective Order in the related CIT case, but not covered under the original APO. A separate service list will be maintained by the Secretary for those parties authorized to receive BPI under the APO in this remand investigation.

Authority: This action is taken under the authority of the Tariff Act of 1930, title VII.

By order of the Commission.
Issued: January 12, 2004.
Marilyn R. Abbott,
Secretary to the Commission.

[FR Doc. 04-940 Filed 1-14-04; 8:45 am]

BILLING CODE 7020-02-P